SECURITIES AND EXCHANGE COMMISSION

[SEC File No. 270-136, OMB Control No. 3235-0157]

Submission for OMB Review; Comment Request; Extension: Form N-8F

Upon Written Request, Copies Available From: Securities and Exchange Commission, Office of FOIA Services, 100 F Street NE, Washington, DC 20549-2736.

Notice is hereby given that, pursuant to the Paperwork Reduction Act of 1995 (44 U.S.C. 3501 et seq.), the Securities and Exchange Commission (the “Commission”) has submitted to the Office of Management and Budget a request for extension of the previously approved collection of information discussed below.

Form N-8F (17 CFR 274.218) is the form prescribed for use by registered investment companies in certain circumstances to request orders of the Commission declaring that the registration of that investment company cease to be in effect. The form requests information about: (i) the investment company's identity, (ii) the investment company's distributions, (iii) the investment company's assets and liabilities, (iv) the events leading to the request to deregister, and (v) the conclusion of the investment company's business. The information is needed by the Commission to determine whether an order of deregistration is appropriate.

The Form takes approximately 5.2 hours on average to complete. It is estimated that approximately 101 investment companies file Form N-8F annually, so the total annual burden for the form is estimated to be approximately 525 hours. The estimate of average burden hours is made solely for the purposes of the Paperwork Reduction Act and is not derived from a comprehensive or even a representative survey or study. Commission staff continues to believe that there is no cost burden for completing and filing Form N-8F.

The collection of information on Form N-8F is not mandatory. The information provided on Form N-8F is not kept confidential. An agency may not conduct or sponsor, and a person is not required to respond to, a collection of information unless it displays a currently-valid OMB control number.

The 30-day public comment period for this information collection request opens on December 4, 2024 and closes on January 3, 2025. The public may view the full information request and submit comments at https://www.reginfo.gov/public/do/PRAViewICR?ref_nbr=202408-3235-028 or email comments to MBX.OMB.OIRA.SEC_desk_officer@omb.eop.gov.

Dated: November 26, 2024.
Sherry R. Haywood,
Assistant Secretary.

[FR Doc. 2024-28260 Filed 12-2-24; 8:45 am]

BILLING CODE 8011-01-P